DEPARTMENT OF TRANSPORTATION

Federal Highway Administration

Notice of Availability of Errata to the Draft Tier 1 Environmental Impact Statement and Preliminary Section 4(f) Evaluation for Interstate 11 Corridor Between Nogales and Wickenburg, AZ

AGENCY: Federal Highway Administration (FHWA), DOT.

ACTION: Notice.

SUMMARY: The FHWA is issuing this notice of availability. This notice announces the publication of the Errata to the Draft Tier 1 Environmental Impact Statement and Preliminary Section 4(f) Evaluation for Interstate 11 Corridor between Nogales and Wickenburg, AZ for review, and that the review and comment period is extended to July 8, 2019.

FOR FURTHER INFORMATION CONTACT: Mr. Aryan Lirange, Senior Urban Engineer, Federal Highway Administration, 4000 N. Central Avenue, Suite 1500, Phoenix, Arizona 85012-3500; telephone: (602) 382-8973, fax: (602)382-8998, email: Aryan.Lirange@dot.gov. The FHWA Arizona Division Office's normal business hours are 7:30 a.m. to 4 p.m. (Mountain Time).

You may also contact: Mrs. Rebecca Yedlin, Environmental Coordinator, Federal Highway Administration, 4000 N. Central Ave, Suite 1500, Phoenix, Arizona 85012-3500; telephone: (602) 382-8979, fax: (602) 382-8998, email: Rebecca.Yedlin@dot.gov.

SUPPLEMENTARY INFORMATION: On April 5, 2019, at 84 FR 13662, FHWA published a notice of availability for its Draft Tier 1 Environmental Impact Statement and Preliminary Section 4(f) Evaluation (Draft Tier 1 EIS) for the Interstate 11 Corridor between Nogales and Wickenburg, AZ project. On April 17, 2019, the Arizona Department of Transportation (ADOT) notified FHWA that a section of the Draft Tier 1 EIS was not included in the document. Based on this, FHWA, in conjunction with ADOT, has published this availability notice in the Federal Register and prepared an Errata to the Draft Tier 1 EIS and will provide an extension to the review and comment period to July 8, 2019. The Draft Tier 1 EIS and the Errata will be available at the Draft Tier 1 EIS repositories and are available online at: http://i11study.com/Arizona/Documents.asp.

Issued on: April 24, 2019.
Karla S. Petty,
Arizona Division Administrator, Phoenix, Arizona.

[FR Doc. 2019-08865 Filed 4-30-19; 8:45 am]

BILLING CODE P